DEPARTMENT OF HEALTH AND HUMAN SERVICES

Centers for Disease Control and Prevention

[30 Day-19-1046]

Agency Forms Undergoing Paperwork Reduction Act Review

In accordance with the Paperwork Reduction Act of 1995, the Centers for Disease Control and Prevention (CDC) has submitted the information collection request titled National Breast and Cervical Cancer Early Detection Program (NBCCEDP) Monitoring Activities to the Office of Management and Budget (OMB) for review and approval. CDC previously published a “Proposed Data Collection Submitted for Public Comment and Recommendations” notice on January 26, 2018 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

National Breast and Cervical Cancer Early Detection Program (NBCCEDP) Monitoring Activities (OMB No. 0920-1046, Exp. 01/31/2018)—Reinstatement with Change—National Center for Chronic Disease Prevention and Health Promotion (NCCDPHP), Centers for Disease Control and Prevention (CDC).

Background and Brief Description

CDC requests a Reinstatement with Change, of an information collection previously approved under OMB Control Number 0920-1046. Information collection within the previous OMB approval period consisted of an annual grantee survey. Information collection within the next OMB approval period will consist of a redesigned survey and a new clinic-level data collection. The number of respondents will increase from 67 to 70, and the total estimated annualized burden will increase from 45 hours to 683 hours.

In 2014, more than 236,000 women were diagnosed with breast cancer, and more than 12,000 women were diagnosed with cervical cancer. Evidence shows that deaths from both breast and cervical cancers can be avoided by increasing screening services among women. However, screening is typically underutilized among women who are under- or uninsured, have no regular source of healthcare, or who recently immigrated to the U.S.

To improve access to cancer screening, Congress passed the Breast and Cervical Cancer Mortality Prevention Act of 1990 (Pub. L. 101-354), which directed CDC to create the National Breast and Cervical Cancer Early Detection Program (NBCCEDP). The NBCCEDP currently provides funding to 70 grantees under “Cancer Prevention and Control Programs for State, Territorial, and Tribal Organizations (DP17-1701).” The purpose of NBCCEDP is to increase breast and cervical cancer screening rates among women residing within defined geographical locations (as determined by the funded program) who are at or below 250% of the federal poverty level; aged 40-64 years for breast cancer services, and aged 21-64 years for cervical cancer services; and under- or uninsured.

The NBCCEDP was significantly redesigned in 2017 to expand its focus on direct service provision to include implementation of evidence-based interventions (EBIs) intended to increase breast and cervical cancer screening at the population level. Based on the redesigned NBCCEDP, the information collection plan has also been redesigned.

The proposed information collection includes: (1) An annual NBCCEDP Grantee Survey revised to reflect the focus of the redesigned program under DP17-1701, and (2) CDC clinic-level data will assess EBI implementation and the NBCCEDP's primary outcome of interest—breast and cervical screening rates within partner health system clinics—at baseline and annually. NBCCEDP grantees will collect and report data for all partnering health system clinic sites—an estimated 6 clinics per grantee for breast cancer data and 6 clinics per grantee for cervical cancer data.

The proposed information collections will allow CDC to gauge progress in meeting NBCCEDP program goals and monitor implementation activities, evaluate outcomes, and identify grantee technical assistance needs. In addition, findings will inform program improvement and help identify successful activities that need to be maintained, replicated, or expanded.

OMB approval is requested for three years. Participation is required for NBCCEDP grantees. There are no costs to respondents other than their time. The total estimated annualized burden hours are 683.

Estimated Annualized Burden Hours
Type of respondent | Form name | Number of respondents | Number of responses per respondent | Average burden per response (in hr)
NBCCEDP Grantees | NBCCEDP Grantee Survey | 70 | 1 | 45/60
NBCCEDP Grantees | NBCCEDP Clinic-level Information Collection Instrument—Breast | 70 | 6 | 45/60
NBCCEDP Grantees | NBCCEDP Clinic-level Information Collection Instrument—Cervical | 70 | 6 | 45/60

Jeffrey M. Zirger,
Acting Chief, Information Collection Review Office, Office of Scientific Integrity, Office of the Associate Director for Science, Office of the Director, Centers for Disease Control and Prevention.

[FR Doc. 2018-23293 Filed 10-24-18; 8:45 am]

BILLING CODE 4163-18-P